DEPARTMENT OF COMMERCE

National Oceanic and Atmospheric Administration

Federal Consistency Appeal by AES Sparrows Point LNG, LLC and Mid-Atlantic Express, LLC

AGENCY: National Oceanic and Atmospheric Administration (NOAA), Department of Commerce (Commerce).

ACTION: Notice of stay—closure of administrative appeal decision record.

SUMMARY: This announcement provides notice that the Secretary of Commerce has stayed, for a period of 60 days, closure of the decision record in an administrative appeal filed by AES Sparrows Point, LLC and Mid-Atlantic Express, LLC (AES Consistency Appeal).

DATES: The decision record for the AES Consistency Appeal will now close on April 14, 2008.

ADDRESSES: Office of the General Counsel for Ocean Services, National Oceanic and Atmospheric Administration, U.S. Department of Commerce, 1305 East-West Highway, Silver Spring, MD 20910.

FOR FURTHER INFORMATION CONTACT: Odin-Smith, Attorney-Advisor, Office of the General Counsel, via e-mail at gcos.inquiries@noaa.gov, or at (301) 713-7392.

SUPPLEMENTARY INFORMATION: In August 2007, AES Sparrows Point, LLC and Mid-Atlantic Express, LLC (AES or Appellant) filed an appeal with the Secretary of Commerce (Secretary) pursuant to section 307(c)(3)(A) of the Coastal Zone Management Act of 1972 (CZMA). The appeal was taken from an objection by the Maryland Department of the Environment (State), relating to AES' proposal to construct and operate a liquefied natural gas terminal in Baltimore County, Maryland, and an associated 88-mile natural gas pipeline.

Under the CZMA, the Secretary must close the decision record in an appeal 160 days after the notice of appeal is published in the Federal Register. However, the CZMA authorizes the Secretary to stay closing the decision record for up to 60 days when the Secretary determines it necessary to receive, on an expedited basis, any supplemental information specifically requested by the Secretary to complete a consistency review or any clarifying information submitted by a party to the proceeding related to information in the consolidated record compiled by the lead Federal permitting agency.

After reviewing the AES Consistency Appeal decision record developed to date, the Secretary has decided to solicit supplemental and clarifying information. In order to allow receipt of this information, the Secretary hereby stays closure of the decision record, currently scheduled to occur on February 14, 2008, until April 14, 2008.

Additional information about the AES Consistency Appeal and the CZMA appeals process is available from the Department of Commerce CZMA appeals Web site http://www.ogc.doc.gov/czma.htm.

Dated: February 11, 2008.
Joel La Bissonniere,
Assistant General Counsel for Ocean Services.

[Federal Domestic Assistance Catalog No. 11.419 Coastal Zone Management Program Assistance.]

[FR Doc. E8-2814 Filed 2-13-08; 8:45 am]

BILLING CODE 3510-08-P